DEPARTMENT OF COMMERCE

International Trade Administration

[A-523-808]

Certain Steel Nails From the Sultanate of Oman: Final Results of Antidumping Duty Administrative Review and Final Determination of No Shipments; 2018-2019

AGENCY: Enforcement and Compliance, International Trade Administration, Department of Commerce.

SUMMARY: The Department of Commerce (Commerce) determines that certain steel nails (steel nails) from the Sultanate of Oman (Oman) were not sold in the United States at less than normal value during the period of review (POR), July 1, 2018, through June 30, 2019.

DATES: Applicable March 15, 2021.

FOR FURTHER INFORMATION CONTACT: Dakota Potts, AD/CVD Operations, Office IV, Enforcement and Compliance, International Trade Administration, U.S. Department of Commerce, 1401 Constitution Avenue NW, Washington, DC 20230; telephone: (202) 482-0223.

SUPPLEMENTARY INFORMATION:

Background

On September 30, 2020, Commerce published the Preliminary Results of the 2018-2019 antidumping duty (AD) administrative review of steel nails from Oman.¹ This administrative review covers four producers and/or exporters of the subject merchandise.² Commerce selected Oman Fasteners LLC (Oman Fasteners) for individual examination. The producers/exporters not selected for individual examination are listed in the “Final Results of the Review” section of this notice. On January 8, 2021, Commerce extended the due date for issuing the final results of this review by 28 days, until February 25, 2021.³ For a complete description of the events that occurred since the Preliminary Results, see the Issues and Decision Memorandum.⁴

¹ See Certain Steel Nails from the Sultanate of Oman: Preliminary Results of Antidumping Duty Administrative Review and Preliminary Determination of No-Shipments; 2018-2019, 85 FR 61720 (September 30, 2020) (Preliminary Results), and accompanying Preliminary Decisions Memorandum.

² This review covers the following companies: Oman Fasteners LLC, Al Kiyumi Global LLC, Modern Factory for Metal Products, and WWL India Private Ltd.

³ See Commerce's Letter, “2018-2019 Administrative Review of the Antidumping Duty Order on Certain Steel Nails from the Sultanate of Oman: Extension of Deadline for Final Results of Antidumping Duty Administrative Review,” dated January 8, 2021.

⁴ See Memorandum, “Issues and Decision Memorandum for the Final Results of the 2018-2019 Administrative Review of the Antidumping Duty Order on Certain Steel Nails from the Sultanate of Oman,” dated concurrently with, and hereby adopted by, this notice (Issues and Decision Memorandum).

Scope of the Order

The products covered by this order are steel nails from Oman. For a full description of the scope of the order, see the Issues and Decision Memorandum.

Analysis of Comments Received

All issues raised in the case and rebuttal briefs are addressed in the Issues and Decision Memorandum. A list of the issues that parties raised and to which we responded in the Issues and Decision Memorandum is attached to this notice as an Appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/index.html/. The signed and electronic versions of the Issues and Decision Memorandum are identical in content.

Final Determination of No Shipments

In the Preliminary Results, Commerce determined that Astrotech Steels Private Ltd. (Astrotech), Geekay Wires Limited (Geekay), and Trinity Steel Private Limited (Trinity) made no shipments of the subject merchandise during the POR. As we have not received any information to contradict our preliminary finding, we find that Astrotech, Geekay, and Trinity did not have any shipments of subject merchandise during the POR and we will issue appropriate instructions to U.S. Customs and Border Protection (CBP) based on these final results of this review.

Changes Since the Preliminary Results

Based on our review of the record and comments received from interested parties, we made the following changes to the Preliminary Results:

• We recalculated the constructed value (CV) financial ratios for profit and indirect selling expenses (ISEs) by removing a financial statement from the preliminary calculation.⁵

⁵ See Issues and Decision Memorandum at Comment 2.

• We recalculated certain companies' financial ratios which entailed a recalculation of the overall CV profit and ISE ratios.⁶

⁶ Id. at Comment 3.

Final Results of the Review

We have determined the following weighted-average dumping margin applies to the producers/exporters listed below for the period July 1, 2018, through June 30, 2019:

Exporter/producer | Estimated weighted- average dumping margin (percent)
Oman Fasteners LLC | 0.00
Al Kiyumi Global LLC | 0.00
Modern Factory for Metal Products | 0.00
WWL India Private Ltd | 0.00

Disclosure and Public Comment

We intend to disclose the calculations performed to parties in this proceeding within five days after publication of these final results in the Federal Register, in accordance with section 751(a) of the Act and 19 CFR 351.224(b).

Assessment Rates

Pursuant to section 751(a)(2)(C) of the Act, and 19 CFR 351.212(b)(1), Commerce shall determine, and CBP shall assess, antidumping duties on all appropriate entries of subject merchandise in accordance with the final results of this review.

We intend to calculate importer- (or customer-) specific assessment rates on the basis of the ratio of the total amount of antidumping duties calculated for each importer's (or customer's) examined sales and the total entered value of the sales in accordance with 19 CFR 351.212(b)(1). Where an importer- (or customer-) specific rate is zero or de minimis within the meaning of 19 CFR 351.106(c)(1), we will instruct CBP to liquidate the appropriate entries without regard to antidumping duties.

Generally, when calculating margins for non-selected respondents, Commerce looks to section 735(c)(5) of the Act for guidance, which provides instructions for calculating the all-others margin in an investigation. Section 735(c)(5)(A) of the Act provides that when calculating the all-others margin, Commerce will exclude any zero and de minimis weighted-average dumping margins, as well as any weighted-average dumping margins based on total facts available. Accordingly, Commerce's usual practice has been to average the margins for selected respondents, excluding margins that are zero, de minimis, or based entirely on facts available.

In this review, we calculated a weighted-average dumping margin of 0.00 percent for the only respondent in this review, i.e., Oman Fasteners. In accordance with section 735(c)(5)(A) of the Act, Commerce assigned Oman Fasteners' weighted-average margin, 0.00 percent, to the non-selected companies in these final results. The rate calculated for the non-selected companies is a weighted-average percentage margin which is calculated based on the U.S. value of Oman Fasteners, the only respondent reviewed, with an affirmative AD margin.⁷ Accordingly, we have applied a rate of 0.00 percent to the non-selected companies.

⁷ See Ball Bearings and Parts Thereof from France, Germany, Italy, Japan, and the United Kingdom: Final Results of Antidumping Duty Administrative Reviews, Final Results of Changed-Circumstances Review, and Revocation of an Order in Part, 75 FR 53661, 53663 (September 1, 2010).

Further, because we find in these final results that Astrotech, Geekay, and Trinity had no shipments of subject merchandise during the POR, we will instruct CBP to liquidate any suspended entries that entered under its AD case number (i.e., at the exporter's rate) or at the all-others rate if there is no rate for the intermediate company(ies) involved in the transaction.

Commerce's “reseller policy” will apply to entries of subject merchandise during the POR produced by companies included in these final results of review for which the reviewed companies did not know that the merchandise they sold to the intermediary (e.g., a reseller, trading company, or exporter) was destined for the United States. In such instances, we will instruct CBP to liquidate unreviewed entries at the all-others rate if there is no rate for the intermediate company(ies) involved in the transaction.⁸

⁸ For a full discussion of this practice, see Antidumping and Countervailing Duty Proceedings: Assessment of Antidumping Duties, 68 FR 23954 (May 6, 2003).

The final results of this administrative review shall be the basis for the assessment of antidumping duties on entries of merchandise under review and for future cash deposits of estimated duties, where applicable. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the notice of final results of administrative review for all shipments of subject merchandise entered, or withdrawn from warehouse, for consumption on or after the publication of the final results of this administrative review, as provided by section 751(a)(2)(C) of the Act: (1) The cash deposit rate for respondents noted above will be the rate established in the final results of this administrative review, except if the rate is less than 0.50 percent and, therefore, de minimis within the meaning of 19 CFR 351.106(c)(I), in which case the cash deposit rate will be zero; (2) for merchandise exported by producers or exporters not covered in this administrative review but covered in a prior segment of the proceeding, the cash deposit rate will continue to be the company-specific rate published for the most recently completed segment of this proceeding; (3) if the exporter is not a firm covered in this review, a prior review, or the original less-than-fair-value (LTFV) investigation, but the producer is, the cash deposit rate will be the rate established for the most recently completed segment of this proceeding for the producer of the subject merchandise; and (4) the cash deposit rate for all other producers or exporters will continue to be 20.58 percent, the all-others rate established in the LTFV investigation.⁹ These cash deposit requirements, when imposed, shall remain in effect until further notice.

⁹ See Steel Concrete Reinforcing Bar from Mexico: Final Determination of Sales at Less Than Fair Value and Final Affirmative Determination of Critical Circumstances, 79 FR 54967 (September 15, 2014).

Notification to Importers

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

Notice to Interested Parties

We are issuing and publishing this notice in accordance with sections 751(a)(1) and 777(i)(1) of the Act and 19 CFR 351.221.

Dated: February 24, 2021.
Christian Marsh,
Acting Assistant Secretary for Enforcement and Compliance.

Appendix

List of Topics Discussed in the Final Issues and Decision Memorandum

I. Summary

II. Background

III. Scope of the Order

IV. Changes Since the Preliminary Results

V. Discussion of the Issues

Comment 1: Whether Commerce Erred in Rejecting Inmax Holding Company Ltd.'s Financial Statements

Comment 2: Which Financial Statements are the Appropriate Source for the Calculation of Constructed Value (CV) Profit and Indirect Selling Expense (ISE) Ratios

Comment 3: Whether Commerce Should Adjust the CV Profit and ISE Ratios Derived from the Financial Statements used for CV

Comment 4: Whether Commerce Should Allow a Profit Cap

Comment 5: Whether Commerce's Targeted Differential Pricing Methodology is Unlawful

VI. Recommendation

[FR Doc. 2021-05304 Filed 3-12-21; 8:45 am]

BILLING CODE 3510-DS-P